OFFICE OF PERSONNEL MANAGEMENT

Privacy Act of 1974: New System of Records

AGENCY: U.S. Office of Personnel Management (OPM).

ACTION: Notice of a new system of records.

SUMMARY: OPM proposes to add OPM/Central-15, Health Claims Data Warehouse to its inventory of records systems subject to the Privacy Act of 1974 (5 U.S.C. 552a), as amended. This action is necessary to meet the requirements of the Privacy Act to publish in the Federal Register notice of the existence and character of records maintained by the agency. 5 U.S.C. 552a(e)(4).

DATES: This action will be effective without further notice on November 15, 2010 unless comments are received that would result in a contrary determination.

ADDRESSES: Send written comments to the Office of Personnel Management, ATTN: Gary A. Lukowski, Ph.D., Manager, Data Analysis, U. S. Office of Personnel Management, 1900 E Street, NW., Room 7439, Washington, DC 20415.

FOR FURTHER INFORMATION CONTACT: Gary A. Lukowski, Ph.D., Manager, Data Analysis, 202-606-1449.

SUPPLEMENTARY INFORMATION: The purpose of this system of records is to provide a central and comprehensive database from which OPM may analyze Federal Employee Health Benefit Program (FEHBP), National Pre-Existing Condition Insurance Program (program commencing August 2010), and Multi-State Option Plan (program commencing January 2014), costs and actively manage the programs to ensure the best value for both enrollees and tax-payers. OPM will collect, manage and analyze health services data on an ongoing basis by establishing regular data feeds for each of three programs. In many instances, the data will be de-identified for specific analyses that provide flexible queries of the data set for general demographic queries, risk-adjusted profiles, and comparison of chronically ill patients and other useful analytics; and engage in econometric modeling of, among other things, health trends, risk adjustment methodologies, pharmacy pricing, and negotiation.

U.S. Office of Personnel Management.
John Berry,
Director.

OPM CENTRAL-15

SYSTEM NAME:

Health Claims Data Warehouse.

SYSTEM LOCATION:

Office of Personnel Management, 1900 E Street, NW., Washington, DC 20415.

CATEGORIES OF INDIVIDUALS COVERED BY THE SYSTEM:

This system contains or will subsequently contain records on three major health insurance programs including the Federal Employee Health Benefit Program (FEHBP); the National Pre-Existing Condition Insurance Program (NPECIP), and the Multi-State Option Plan. The FEHBP includes Federal employees, Postal employees, uniformed service members, retirees, and their family members who voluntarily participate in the Program. This system will also contain records on individuals eligible for and enrolled in the NPECIP in accordance with the Patient Protection and Affordable Care Act (Affordable Care Act) and implementing rules promulgated by the Department of Health and Human Services (DHHS). Through an interagency agreement, OPM will support DHHS in the development and operation of the NPECIP. This system will also contain information on individuals subsequently enrolled in the Multi-State Options also in accordance with the Affordable Care Act.

CATEGORIES OF RECORDS IN THE SYSTEM:

The records in the system may contain the following types of information on a participating enrollees:

a. Personal Identifying Information (Name, Social Security Number, Date of Birth, Gender, Phone number etc)

b. Address (Current, Mailing)

c. Dependent Information (Spouse, Dependents and their addresses)

d. Employment information

e. Health Care Provider information including debarred provider information

f. Health care coverage information.

g. Health care procedure information.

h. Health care diagnosis information.

i. Provider charges and reimbursement information on the above coverage, procedures and diagnoses.

AUTHORITY FOR MAINTENANCE OF THE SYSTEM:

Authority is provided by 5 U.S.C. 8910 and the Patient Protection and Affordable Care Act of 2010.

PURPOSE:

The purpose of this system of records is to provide a central and comprehensive database from which OPM may analyze Federal Employee Health Benefit Program (FEHBP), National Pre-Existing Condition Insurance Program (program commencing August 2010), and Multi-State Option Plan (program commencing January 2014), and actively manage all three programs to ensure the best value for the enrollees and taxpayers. OPM will collect, manage, and analyze health services data on an ongoing basis by establishing regular data feeds from the various plans. In many instances, the data will be de-identified for specific analyses that provide flexible queries of the data set for general demographic queries, risk-adjusted profiles, and comparison of chronically ill patients and other useful analytics; and engage in econometric modeling of, among other things, health trends, risk adjustment methodologies, pharmacy pricing, and negotiation.

ROUTINE USES OF RECORDS MAINTAINED IN THE SYSTEM, INCLUDING CATEGORIES OF USERS AND THE PURPOSES OF SUCH USES:

Routine uses 1, 3 through 7 of the Prefatory Statement at the beginning of OPM's system notices apply to the records maintained within this system.

1. For Law Enforcement Purposes—To disclose pertinent information to the appropriate Federal, State, or local agency responsible for investigating, prosecuting, enforcing, or implementing a statute, rule, regulation, or order, where OPM becomes aware of an indication of a violation or potential violation of civil or criminal law or regulation.

3. For Congressional Inquiry—To provide information to a congressional office from the record of an individual in response to an inquiry from that congressional office made at the request of that individual.

4. For Judicial/Administrative Proceedings—To disclose information to another Federal agency, to a court, or a party in litigation before a court or in an administrative proceeding being conducted by a Federal agency, when the Government is a party to the judicial or administrative proceeding. In those cases where the Government is not a party to the proceeding, records may be disclosed if a subpoena has been signed by a judge.

5. For National Archives and Records Administration—To disclose information to the National Archives and Records Administration for use in records management inspections.

6. Within OPM for Statistical/Analytical Studies—By OPM in the production of summary descriptive statistics and analytical studies in support of the function for which the records are collected and maintained, or for related workforce studies. While published studies do not contain individual identifiers, in some instances the selection of elements of data included in the study may be structured in such a way as to make the data individually identifiable by inference.

7. For Litigation—To disclose information to the Department of Justice or in a proceeding before a court, adjudicative body, or other administrative body before which OPM is authorized to appear, when:

(1) OPM, or any component thereof; or

(2) Any employee of OPM in his or her official capacity; or

(3) Any employee of OPM in his or her individual capacity where the Department of Justice or OPM has agreed to represent the employee; or

(4) The United States, when OPM determines that litigation is likely to affect OPM or any of its components; is a party to litigation or has an interest in such litigation, and the use of such records by the Department of Justice or OPM is deemed by OPM to be relevant and necessary to the litigation provided, however, that the disclosure is compatible with the purpose for which records were collected.

The routine uses listed below are specific to this system of records only:

1. To disclose to program and policy staff at the Office of Personnel Management to compile and analyze claims utilization data to identify sources of benefit and utilization costs and other information and to formulate health care program changes and enhancements to reduce cost increases, improve outcomes, improve efficiency in program administration and for other purposes.

2. To disclose to researchers and analysts inside and outside the Federal Government for the purpose of conducting research on health care and health insurance trends and topical issues.

POLICIES AND PRACTICES OF STORING, RETRIEVING, SAFEGUARDING, RETAINING, AND DISPOSING OF RECORDS IN THE SYSTEM:

STORAGE:

These records will be maintained in electronic systems.

RETRIEVABILITY:

These records are retrieved by a combination of name and social security number of the individual on whom they are maintained.

SAFEGUARDS:

OPM restricts access to the records on the databases to employees who have the appropriate clearance and need-to-know to perform their official duties. Computerized records are located in a secured database on a secured system.

RETENTION AND DISPOSAL:

We maintain the records for 7 years. Computer records are destroyed by electronic erasure. A records retention schedule is currently being established with NARA.

SYSTEM MANAGER AND ADDRESS:

Gary A. Lukowski, Ph.D., Manager, Data Analysis, U. S. Office of Personnel Management, 1900 E Street, NW., Room 7439, Washington, DC 20415.

NOTIFICATION AND RECORD ACCESS PROCEDURE:

Individuals wishing to determine whether this system of records contains information about them may do so by writing to the U.S. Office of Personnel Management, FOIA Requester Service Center, 1900 E Street, NW., Room 5415, Washington, DC 20415-7900 or by e-mailing foia@opm.gov.

Individuals must furnish the following information for their records to be located:

1. Full name.

2. Date and place of birth.

3. Social Security Number.

4. Signature.

5. Available information regarding the type of information requested.

6. The reason why the individual believes this system contains information about him/her.

7. The address to which the information should be sent.

Individuals requesting access must also comply with OPM's Privacy Act regulations regarding verification of identity and access to records (5 CFR 297).

CONTESTING RECORD PROCEDURE:

Individuals wishing to request amendment of records about them should write to the Office of Personnel Management, ATTN: Gary A. Lukowski, Ph.D., Manager, Data Analysis, Room 7439, Washington, DC 20415, and furnish the following information for their records to be located:

1. Full name.

2. Date and place of birth.

3. Social Security Number.

4. City, state and zip code of their Federal Agency

5. Signature.

6. Precise identification of the information to be amended.

Individuals requesting amendment must also follow OPM's Privacy Act regulations regarding verification of identity and amendment to records (5 CFR 297).

RECORD SOURCE CATEGORIES:

Information in this system of records is obtained from health care providers used by the U. S. Office of Personnel Management to manage the FEHBP and high risk pools.

SYSTEM EXEMPTIONS:

None.

[FR Doc. 2010-24927 Filed 10-4-10; 8:45 am]

BILLING CODE 6325-46-P